ENVIRONMENTAL PROTECTION AGENCY

40 CFR Part 62

[AZ NV-095-NEGDECb; FRL-7534-9]

Approval and Promulgation of State Air Quality Plans for Designated Facilities and Pollutants; Control of Emissions From Existing Commercial/Industrial Solid Waste Incinerator Units; Arizona; Nevada

AGENCY: Environmental Protection Agency (EPA).

ACTION: Proposed rule.

SUMMARY: EPA is proposing to approve the negative declarations submitted by various local air pollution control agencies in Arizona and Nevada. Each negative declaration certifies that commercial/industrial solid waste incinerator units, which are subject to the requirements of sections 111(d) and 129 of the Clean Air Act, do not exist within the relevant agency's air pollution control jurisdiction.

DATES: Comments must be received in writing by September 17, 2003.

ADDRESSES: Mail comments to Andrew Steckel, Rulemaking Office Chief (AIR-4), U.S. Environmental Protection Agency, Region IX, 75 Hawthorne Street, San Francisco, CA 94105-3901.

FOR FURTHER INFORMATION CONTACT: Mae Wang, EPA Region IX, (415) 947-4124.

SUPPLEMENTARY INFORMATION: This proposal addresses Clean Air Act section 111(d)/129 negative declarations submitted by various local air pollution control agencies in Arizona and Nevada, certifying that commercial/industrial solid waste incinerator units do not exist within their air pollution control jurisdictions. For further information, please see the information provided in the direct final action, with the same title, that is located in the “Rules and Regulations” section of this Federal Register publication. If no adverse comments are received in response to this action, no further activity will be contemplated. If EPA receives adverse comments, the direct final rule will be withdrawn and all public comments received will be addressed in a subsequent final rule based on this proposed rule. EPA will not institute a second comment period. Any parties interested in commenting on this action should do so at this time. Please note that if EPA receives adverse comment on an amendment, paragraph, or section of this rule and if that provision may be severed from the remainder of the rule, EPA may adopt as final those provisions of the rule that are not the subject of an adverse comment.

Dated: July 8, 2003.
Wayne Nastri,
Regional Administrator, Region IX.

[FR Doc. 03-21055 Filed 8-15-03; 8:45 am]

BILLING CODE 6560-50-P